DEPARTMENT OF ENERGY

Energy Regulatory Commission

[Project No. 14650-000]

Paul Greyshock; Notice of Preliminary Permit Application Accepted for Filing and Soliciting Comments, Motions To Intervene, and Competing Applications

On December 4, 2014, Paul Greyshock filed an application for a preliminary permit, pursuant to section 4(f) of the Federal Power Act (FPA), proposing to study the feasibility of the Ft. Pierce Pilot Project (Ft. Pierce Project or project) to be located in the Fort Pierce Inlet, near the City of Fort Pierce, St. Lucie County, Florida. The sole purpose of a preliminary permit, if issued, is to grant the permit holder priority to file a license application during the permit term. A preliminary permit does not authorize the permit holder to perform any land-disturbing activities or otherwise enter upon lands or waters owned by others without the owners' express permission.

The proposed project would consist of the following: A prototype sub-surface propeller generator encased within 6-foot-diameter, 2-foot-wide tube, screened on both ends to protect marine life and protect the mechanism from debris. The generator has a capacity of 40 kilowatts, and will be suspended in 18-foot-deep water near the mouth of the inlet. Anchors on each end of the generator housing will secure it to the inlet floor. A transmission cable will connect the generator to a series of batteries located behind the Manatee Bar and Grill to monitor load and output. The estimated annual generation of the Ft. Pierce Project would be 80.0 megawatt-hours.

Applicant Contact: Mr. Paul Greyshock, Cyclo-Ocean Inc., 670 16th St., Vero Beach, Florida 32960; phone: (772) 501-4865 or Mr. David Cox, 2044 14th Ave., Suite 24, Vero Beach, Florida 32960; phone: (772) 564 0540.

FERC Contact: Michael Spencer; phone: (202) 502-6093.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14650-000.

More information about this project, including a copy of the application, can be viewed or printed on the “eLibrary” link of Commission's Web site at http://www.ferc.gov/docs-filing/elibrary.asp. Enter the docket number (P-14650) in the docket number field to access the document. For assistance, contact FERC Online Support.

Dated: February 25, 2015.
Nathaniel J. Davis, Sr.,
Deputy Secretary.

[FR Doc. 2015-04371 Filed 3-2-15; 8:45 am]

BILLING CODE 6717-01-P